ENVIRONMENTAL PROTECTION AGENCY

[EPA-HQ-OPP-2002-0302; FRL-8341-2]

Dichlorvos Petition Response; Notice of Availability

AGENCY: Environmental Protection Agency (EPA).

ACTION: Notice.

SUMMARY: This notice announces the availability of EPA's response to the petition dated June 2, 2006 submitted by the Natural Resources Defense Council (NRDC) insofar as the petition seeks to have EPA cancel all registrations for dichlorvos (DDVP). EPA's response is available in the DDVP docket (EPA-HQ-OPP-2002-0302) at www.regulations.gov. Elsewhere in today's Federal Register, EPA is making available its response to the June 2, 2006 petition insofar as it seeks to have EPA revoke all tolerances for DDVP. Taken together, these documents form EPA's response to the petition.

FOR FURTHER INFORMATION CONTACT: Susan Bartow, Special Review and Reregistration Division (7508P), Office of Pesticide Programs, Environmental Protection Agency, 1200 Pennsylvania Ave., NW., Washington, DC 20460-0001; telephone number: (703) 603-0065; fax number: (703) 308-8005; e-mail address: bartow.susan@epa.gov.

SUPPLEMENTARY INFORMATION:

General Information

How Can I Get Copies of this Document and Other Related Information?

1. Docket. EPA has established a docket for this action under docket identification (ID) number EPA-HQ-OPP-2002-0302. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

List of Subjects

Environmental protection, Pesticides, Pests.

Dated: November 28, 2007.
Steven Bradbury,
Director, Special Review and Reregistration Division, Office of Pesticide Programs.

[FR Doc. E7-23566 Filed 12-4-07; 8:45 am]

BILLING CODE 6560-50-S